DEPARTMENT OF HEALTH AND HUMAN SERVICES

Health Resources and Services Administration

Notice of Extension and Supplemental Award for Living Organ Donation Reimbursement Program

AGENCY: Health Resources and Services Administration (HRSA), Department of Health and Human Services.

ACTION: Notice of non-competitive extension with supplemental award.

SUMMARY: HRSA is providing supplemental award funds to the award recipient under the Living Organ Donation Reimbursement Program. This action will extend the current period of performance for the recipient by 12 months to ensure continued access to lifesaving living organ transplants via the National Living Donor Assistance Center.

FOR FURTHER INFORMATION CONTACT: Arjun Naik, Public Health Analyst, Division of Transplantation, Health Systems Bureau, HRSA, at ANaik@hrsa.gov and (301) 443-2568.

SUPPLEMENTARY INFORMATION:

Intended Recipient of the Award: University of Kansas, Medical Center Research Institute, Inc.

Amount of Non-Competitive Award: $2,400,000.

Period of Performance: September 1, 2019, to August 31, 2025.

Assistance Listing (CFDA) Number: 93.134.

Award Instrument: Non-competitive extension with supplemental funds.

Authority: 42 U.S.C. 274f (section 377 of the Public Health Service Act, as amended)

Table 1—Recipients and Award Amounts
Grant No. | Award recipient name | City, state | Award amount
U13HS33878 | University of Kansas, Medical Center Research Institute, Inc | Fairway, KS | $2,400,000

Justification: HRSA is committed to best serving the needs of patients on the national organ transplant waiting list, their families, donors and their families. As part of this effort, HRSA is working to continue to strengthen the Living Organ Donation Reimbursement Program and increase equitable access to living organ transplants, particularly for medically underserved communities. Extending the period of performance will allow HRSA additional time to publish a new notice of funding opportunity to continue to improve living donation while ensuring continued access to lifesaving living organ transplants via the National Living Donor Assistance Center.

Carole Johnson,
Administrator.

[FR Doc. 2024-17810 Filed 8-9-24; 8:45 am]

BILLING CODE 4165-15-P